DEPARTMENT OF LABOR

Employment Training Administration

Labor Surplus Area Classification Under Executive Orders 12073 and 10582

Correction

In notice document 03-2461 beginning on page 5748 in the issue of Tuesday, February 4, 2003, make the following corrections:

1. On page 5757, under the state “KENTUCKY”, correct the table in part to read as follows:

Labor Surplus Areas—October 1, 2002 Through September 30, 2003
Eligible labor surplus areas | Civil jurisdictions included
* * * * * | * * * * *
KENTUCKY
* * * * * | * * * * *
BALANCE OF WARREN COUNTY | WARREN COUNTY LESS
| BOWLING GREEN CITY
* * * * * | * * * * *

2. On page 5759, under the state “MICHIGAN”, correct the table in part to read as follows:

Labor Surplus Areas—October 1, 2002 Through September 30, 2003
Eligible labor surplus areas | Civil jurisdictions included
* * * * * | * * * * *
MICHIGAN
* * * * * | * * * * *
GLADWIN COUNTY | GLADWIN COUNTY
GOGEBIC COUNTY | GOGEBIC COUNTY
HIGHLAND PARK CITY | HIGHLAND PARK CITY IN
| WAYNE COUNTY
* * * * * | * * * * *

3. On page 5761, under the state “NEW JERSEY”, correct the table in part to read as follows:

Labor Surplus Areas—October 1, 2002 Through September 30, 2003
Eligible labor surplus areas | Civil jurisdictions included
* * * * * | * * * * *
NEW JERSEY
* * * * * | * * * * *
BALANCE OF CUMBERLAND COUNTY | CUMBERLAND COUNTY LESS
| MILLVILLE CITY
| VINELAND CITY
* * * * * | * * * * *

4. On page 5763, under the state “NORTH CAROLINA”, correct the table in part to read as follows:

Labor Surplus Areas—October 1, 2002 Through September 30, 2003
Eligible labor surplus areas | Civil jurisdictions included
* * * * * | * * * * *
NORTH CAROLINA
* * * * * | * * * * *
BALANCE OF GASTON COUNTY N.C. | GASTON COUNTY N.C. LESS
| GASTONIA CITY N.C.
GASTONIA CITY N.C. | GASTONIA CITY N.C IN
| GASTON COUNTY N.C
* * * * * | * * * * *

5. On page 5765, under the state “PENNSYLVANIA”, correct the table in part to read as follows:

Labor Surplus Areas—October 1, 2002 Through September 30, 2003
Eligible labor surplus areas | Civil jurisdictions included
* * * * * | * * * * *
PENNSYLVANIA
* * * * * | * * * * *
HAZLETON CITY | HAZLETON CITY IN
| LUZERNE COUNTY
* * * * * | * * * * *

6. On page 5769, under the state “UTAH”, correct the table in part to read as follows:

Labor Surplus Areas—October 1, 2002 Through September 30, 2003
Eligible labor surplus areas | Civil jurisdictions included
* * * * * | * * * * *
UTAH
* * * * * | * * * * *
DUCHESNE | DUCHESNE COUNTY
EMERY COUNTY | EMERY COUNTY
* * * * * | * * * * *

7. On the same page, under the state “VIRGINIA”, correct the table in part to read as follows:

Labor Surplus Areas—October 1, 2002 Through September 30, 2003
Eligible labor surplus areas | Civil jurisdictions included
* * * * * | * * * * *
VIRGINIA
* * * * * | * * * * *
DANVILLE CITY | DANVILLE CITY
DICKENSON COUNTY | DICKENSON COUNTY
GALAX CITY | GALAX CITY
* * * * * | * * * * *

[FR Doc. C3-2461 Filed 2-27-03; 8:45 am]

BILLING CODE 1505-01-D

DEPARTMENT OF THE TREASURY

Office of Foreign Assets Control

Payments to Persons Who Hold Certain Categories of Judgments Against Cuba or Iran

February 19, 2003.

Correction

In notice document 03-3925 beginning on page 8077 in the issue of Wednesday, February 19, 2003, make the following correction:

On page 8082, in the third column, under the heading Part 6. Available Funds for Iran-Related Claims, the last paragraph on the page should be removed.

[FR Doc. C3-3925 Filed 2-27-03; 8:45 am]

BILLING CODE 1505-01-D